COMMITTEE FOR PURCHASE FROM PEOPLE WHO ARE BLIND OR SEVERELY DISABLED

Procurement List; Proposed Deletions

AGENCY: Committee for Purchase From People Who Are Blind or Severely Disabled.

ACTION: Proposed deletions from the Procurement List.

SUMMARY: The Committee is proposing to delete products and a service from the Procurement List that were previously furnished by nonprofit agencies employing persons who are blind or have other severe disabilities.

DATES: Comments must be received on or before: May 7, 2017.

ADDRESSES: Committee for Purchase From People Who Are Blind or Severely Disabled, 1401 S. Clark Street, Suite 715, Arlington, Virginia 22202-4149.

FOR FURTHER INFORMATION OR TO SUBMIT COMMENTS CONTACT: Amy B. Jensen, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Deletions

The following products and service are proposed for deletion from the Procurement List:

Products

NSN(s)—Product Name(s): 6135-01-096-0330—Battery, Non-Rechargeable, Button, 1.55V, Silver Oxide

Mandatory Source(s) of Supply: Eastern Carolina Vocational Center (ECVC), Greenville, NC

Contracting Activity: Defense Logistics Agency Land and Maritime

NSN(s)—Product Name(s):

8415-01-536-4140—Cap, Utility, ABU, Air Force, Tiger Stripe Camouflage, 6½

8415-01-536-4144—Cap, Utility, ABU, Air Force, Tiger Stripe Camouflage, 6⅜

8415-01-536-4148—Cap, Utility, ABU, Air Force, Tiger Stripe Camouflage, 6⅝

8415-01-536-4152—Cap, Utility, ABU, Air Force, Tiger Stripe Camouflage, 6¾

8415-01-536-4181—Cap, Utility, ABU, Air Force, Tiger Stripe Camouflage, 6⅞

8415-01-536-4183—Cap, Utility, ABU, Air Force, Tiger Stripe Camouflage, 7

8415-01-536-4185—Cap, Utility, ABU, Air Force, Tiger Stripe Camouflage, 7⅛

8415-01-536-4212—Cap, Utility, ABU, Air Force, Tiger Stripe Camouflage, 7¼

8415-01-536-4218—Cap, Utility, ABU, Air Force, Tiger Stripe Camouflage, 7⅜

8415-01-536-4221—Cap, Utility, ABU, Air Force, Tiger Stripe Camouflage, 7½

8415-01-536-4223—Cap, Utility, ABU, Air Force, Tiger Stripe Camouflage, 7⅝

8415-01-536-4226—Cap, Utility, ABU, Air Force, Tiger Stripe Camouflage, 7¾

8415-01-536-4229—Cap, Utility, ABU, Air Force, Tiger Stripe Camouflage, 7⅞

8415-01-536-4233—Cap, Utility, ABU, Air Force, Tiger Stripe Camouflage, 8

8415-01-536-4236—Cap, Utility, ABU, Air Force, Tiger Stripe Camouflage, 8⅛

8415-01-536-4240—Cap, Utility, ABU, Air Force, Tiger Stripe Camouflage, 8¼

8415-01-536-4245—Cap, Utility, ABU, Air Force, Tiger Stripe Camouflage, 8⅜

8415-01-536-4248—Cap, Utility, ABU, Air Force, Tiger Stripe Camouflage, 8½

Mandatory Source(s) of Supply: Southeastern Kentucky Rehabilitation Industries, Inc., Corbin, KY

Contracting Activity: Defense Logistics Agency Troop Support

NSN(s)—Product Name(s):

8415-01-542-5438—Shirt, Level 1, ECWCS, PCU, Army, Long Sleeved, Brown, S

8415-01-542-5457—Shirt, Level 1, ECWCS, PCU, Army, Long Sleeved, Brown, XS

8415-01-542-5442—Shirt, Level 1, ECWCS, PCU, Army, Long Sleeved, Brown, M

8415-01-543-7062—Shirt, Level 1, ECWCS, PCU, Army, Long Sleeved, Brown, M-L

8415-01-542-5444—Shirt, Level 1, ECWCS, PCU, Army, Long Sleeved, Brown, L

8415-01-542-5446—Shirt, Level 1, ECWCS, PCU, Army, Long Sleeved, Brown, L-L

8415-01-542-5448—Shirt, Level 1, ECWCS, PCU, Army, Long Sleeved, Brown, XL

8415-01-542-5450—Shirt, Level 1, ECWCS, PCU, Army, Long Sleeved, Brown, XL-L

8415-01-542-5451—Shirt, Level 1, ECWCS, PCU, Army, Long Sleeved, Brown, XXL

8415-01-542-5459—Shirt, Level 1, ECWCS, PCU, Army, Long Sleeved, Brown, XXLL

8415-01-542-5461—Shirt, Level 1, ECWCS, PCU, Army, Long Sleeved, Brown, XXXL

8415-01-542-5464—Shirt, Level 1, ECWCS, PCU, Army, Long Sleeved, Brown, XXXLL

8415-01-542-5809—Trousers, ECWCS, Level 1, PCU, Army, Brown, XS

8415-01-542-5790—Trousers, ECWCS, Level 1, PCU, Army, Brown, S

8415-01-542-5792—Trousers, ECWCS, Level 1, PCU, Army, Brown, M

8415-01-543-7012—Trousers, ECWCS, Level 1, PCU, Army, Brown, M-L

8415-01-542-5794—Trousers, ECWCS, Level 1, PCU, Army, Brown, L

8415-01-542-5799—Trousers, ECWCS, Level 1, PCU, Army, Brown, L-L

8415-01-542-5801—Trousers, ECWCS, Level 1, PCU, Army, Brown, XL

8415-01-542-5806—Trousers, ECWCS, Level 1, PCU, Army, Brown, XL-L

8415-01-542-5810—Trousers, Cold Weather Level 1, ECWCS, PCU, Army, Brown, XXL

8415-01-542-5786—Trousers, ECWCS, Level 1, PCU, Army, Brown, XXLL

8415-01-543-0426—Trousers, Lightweight ECWCS Level 1, PCU, Army, Brown, XXXLL

Mandatory Source(s) of Supply: ReadyOne Industries, Inc., El Paso, TX

Contracting Activity: Army Contracting Command—Aberdeen Proving Ground, Natick Contracting Division

NSN(s)—Product Name(s):

8410-01-556-0054—Shirt, Tuck-in, Army, Women's, Long Sleeved, White, 4R

8410-01-556-0161—Shirt, Tuck-in, Army, Women's, Long Sleeved, White, 26L

8410-01-556-0059—Shirt, Tuck-in, Army, Women's, Long Sleeved, White, 8R

8410-01-556-0063—Shirt, Tuck-in, Army, Women's, Long Sleeved, White, 8L

8410-01-556-0070—Shirt, Tuck-in, Army, Women's, Long Sleeved, White, 10R

8410-01-556-0075—Shirt, Tuck-in, Army, Women's, Long Sleeved, White, 10L

8410-01-556-0080—Shirt, Tuck-in, Army, Women's, Long Sleeved, White, 12R

8410-01-556-0083—Shirt, Tuck-in, Army, Women's, Long Sleeved, White, 12L

8410-01-556-0087—Shirt, Tuck-in, Army, Women's, Long Sleeved, White, 14R

8410-01-556-0090—Shirt, Tuck-in, Army, Women's, Long Sleeved, White, 14L

8410-01-556-0095—Shirt, Tuck-in, Army, Women's, Long Sleeved, White, 16R

8410-01-556-0100—Shirt, Tuck-in, Army, Women's, Long Sleeved, White, 16L

8410-01-556-0110—Shirt, Tuck-in, Army, Women's, Long Sleeved, White, 18R

8410-01-556-0117—Shirt, Tuck-in, Army, Women's, Long Sleeved, White, 18L

8410-01-556-0122—Shirt, Tuck-in, Army, Women's, Long Sleeved, White, 20R

8410-01-556-0134—Shirt, Tuck-in, Army, Women's, Long Sleeved, White, 20L

8410-01-556-0141—Shirt, Tuck-in, Army, Women's, Long Sleeved, White, 22L

8410-01-556-0151—Shirt, Tuck-in, Army, Women's, Long Sleeved, White, 24L

8410-01-556-0056—Shirt, Tuck-in, Army, Women's, Long Sleeved, White, 6R

8410-01-579-3671—Shirt, Army, Women's, Short Sleeve, White, 22 Regular, PGC 03430

8410-01-579-3675—Shirt, Army, Women's, Short Sleeve, White, 24 Regular, PGC 03430

8410-01-579-3680—Shirt, Army, Women's, Short Sleeve, White, 26 Regular, PGC 03430

8410-00-0SH-TA17—Shirt, Army, Women's, Short Sleeve, White, Special Measurement, PGC 03430

8410-01-555-9462—Shirt, Tuck-in, Army, Women's, Long Sleeved, White, 16S

8410-01-555-9463—Shirt, Tuck-in, Army, Women's, Long Sleeved, White, 16R

8410-01-555-9470—Shirt, Tuck-in, Army, Women's, Long Sleeved, White, 16L

8410-01-555-9499—Shirt, Tuck-in, Army, Women's, Long Sleeved, White, 16XL

8410-01-555-9506—Shirt, Tuck-in, Army, Women's, Long Sleeved, White, 16XX

8410-01-555-9510—Shirt, Tuck-in, Army, Women's, Long Sleeved, White, 18S

8410-01-555-9514—Shirt, Tuck-in, Army, Women's, Long Sleeved, White, 18R

8410-01-555-9520—Shirt, Tuck-in, Army, Women's, Long Sleeved, White, 18L

8410-01-555-9525—Shirt, Tuck-in, Army, Women's, Long Sleeved, White, 18XL

8410-01-555-9528—Shirt, Tuck-in, Army, Women's, Long Sleeved, White, 18XXL

8410-01-555-9533—Shirt, Tuck-in, Army, Women's, Long Sleeved, White, 20S

8410-01-555-9537—Shirt, Tuck-in, Army, Women's, Long Sleeved, White, 20R

8410-01-555-9543—Shirt, Tuck-in, Army, Women's, Long Sleeved, White, 20L

8410-01-555-9549—Shirt, Tuck-in, Army, Women's, Long Sleeved, White, 20XL

8410-01-555-9612—Shirt, Tuck-in, Army, Women's, Long Sleeved, White, 20XXL

8410-01-555-9924—Shirt, Tuck-in, Army, Women's, Long Sleeved, White, 22R

8410-01-555-9938—Shirt, Tuck-in, Army, Women's, Long Sleeved, White, 22L

8410-01-555-9947—Shirt, Tuck-in, Army, Women's, Long Sleeved, White, 22XL

8410-01-555-9954—Shirt, Tuck-in, Army, Women's, Long Sleeved, White, 22XXL

8410-01-555-9959—Shirt, Tuck-in, Army, Women's, Long Sleeved, White, 24R

8410-01-555-9974—Shirt, Tuck-in, Army, Women's, Long Sleeved, White, 24L

8410-01-555-9980—Shirt, Tuck-in, Army, Women's, Long Sleeved, White, 24XL

8410-01-555-9984—Shirt, Tuck-in, Army, Women's, Long Sleeved, White, 24XXL

8410-01-555-9987—Shirt, Tuck-in, Army, Women's, Long Sleeved, White, 26R

8410-01-555-9992—Shirt, Tuck-in, Army, Women's, Long Sleeved, White, 26L

8410-01-555-9994—Shirt, Tuck-in, Army, Women's, Long Sleeved, White, 26XL

8410-01-556-0000—Shirt, Tuck-in, Army, Women's, Long Sleeved, White, 26XXL

8410-01-556-0028—Shirt, Tuck-in, Army, Women's, Long Sleeved, White, 14L

8410-01-555-9082—Shirt, Tuck-in, Army, Women's, Long Sleeved, White, 4XS

8410-01-555-9088—Shirt, Tuck-in, Army, Women's, Long Sleeved, White, 4S

8410-01-555-9091—Shirt, Tuck-in, Army, Women's, Long Sleeved, White, 4R

8410-01-555-9094—Shirt, Tuck-in, Army, Women's, Long Sleeved, White, 4L

8410-01-555-9097—Shirt, Tuck-in, Army, Women's, Long Sleeved, White, 6XS

8410-01-555-9100—Shirt, Tuck-in, Army, Women's, Long Sleeved, White, 6S

8410-01-555-9107—Shirt, Tuck-in, Army, Women's, Long Sleeved, White, 6R

8410-01-555-9112—Shirt, Tuck-in, Army, Women's, Long Sleeved, White, 6L

8410-01-555-9117—Shirt, Tuck-in, Army, Women's, Long Sleeved, White, 8XS

8410-01-555-9125—Shirt, Tuck-in, Army, Women's, Long Sleeved, White, 8S

8410-01-555-9133—Shirt, Tuck-in, Army, Women's, Long Sleeved, White, 8R

8410-01-555-9136—Shirt, Tuck-in, Army, Women's, Long Sleeved, White, 8L

8410-01-555-9145—Shirt, Tuck-in, Army, Women's, Long Sleeved, White, 10XS

8410-01-555-9154—Shirt, Tuck-in, Army, Women's, Long Sleeved, White, 10S

8410-01-555-9178—Shirt, Tuck-in, Army, Women's, Long Sleeved, White, 10R

8410-01-555-9387—Shirt, Tuck-in, Army, Women's, Long Sleeved, White, 10L

8410-01-555-9389—Shirt, Tuck-in, Army, Women's, Long Sleeved, White, 10XL

8410-01-555-9391—Shirt, Tuck-in, Army, Women's, Long Sleeved, White, 12S

8410-01-555-9394—Shirt, Tuck-in, Army, Women's, Long Sleeved, White, 12R

8410-01-555-9398—Shirt, Tuck-in, Army, Women's, Long Sleeved, White, 12L

8410-01-555-9404—Shirt, Tuck-in, Army, Women's, Long Sleeved, White, 12XL

8410-01-555-9407—Shirt, Tuck-in, Army, Women's, Long Sleeved, White, 12XX

8410-01-555-9422—Shirt, Tuck-in, Army, Women's, Long Sleeved, White, 14S

8410-01-555-9426—Shirt, Tuck-in, Army, Women's, Long Sleeved, White, 14R

8410-01-555-9435—Shirt, Tuck-in, Army, Women's, Long Sleeved, White, 14XL

8410-01-555-9455—Shirt, Tuck-in, Army, Women's, Long Sleeved, White, 14XX

8410-01-498-0721—Shirt, Dress, Navy, Women's, Quarter Length Sleeve, White, 46/14

8410-01-498-0730—Shirt, Dress, Navy, Women's, Quarter Length Sleeve, White, 46/15

8410-01-498-0731—Shirt, Dress, Navy, Women's, Quarter Length Sleeve, White, 46/16

8410-01-498-0732—Shirt, Dress, Navy, Women's, Quarter Length Sleeve, White, 46/17

8410-01-498-0733—Shirt, Dress, Navy, Women's, Quarter Length Sleeve, White, 48/14

8410-01-498-0735—Shirt, Dress, Navy, Women's, Quarter Length Sleeve, White, 48/15

8410-01-498-0736—Shirt, Dress, Navy, Women's, Quarter Length Sleeve, White, 48/16

8410-01-498-0738—Shirt, Dress, Navy, Women's, Quarter Length Sleeve, White, 48/17

8410-01-498-0757—Shirt, Dress, Navy, Women's, Quarter Length Sleeve, White, 50/14

8410-01-498-0741—Shirt, Dress, Navy, Women's, Quarter Length Sleeve, White, 50/15

8410-01-498-0742—Shirt, Dress, Navy, Women's, Quarter Length Sleeve, White, 50/16

8410-01-498-0743—Shirt, Dress, Navy, Women's, Quarter Length Sleeve, White, 50/17

8410-01-498-0744—Shirt, Dress, Navy, Women's, Quarter Length Sleeve, White, 50/18

8410-01-498-0750—Shirt, Dress, Navy, Women's, Quarter Length Sleeve, White, 52/14

8410-01-498-0751—Shirt, Dress, Navy, Women's, Quarter Length Sleeve, White, 52/15

8410-01-498-0758—Shirt, Dress, Navy, Women's, Quarter Length Sleeve, White, 52/16

8410-01-498-0759—Shirt, Dress, Navy, Women's, Quarter Length Sleeve, White, 52/17

8410-01-512-7489—Shirt, Dress, Navy, Women's, Quarter Length Sleeve, White, 44/14

8410-01-512-7497—Shirt, Dress, Navy, Women's, Quarter Length Sleeve, White, 44/15

8410-01-512-7502—Shirt, Dress, Navy, Women's, Quarter Length Sleeve, White, 44/16

8410-01-069-6612—Shirt, Dress, Navy, Women's, Short Sleeved, White, 32x13

8410-01-069-6613—Shirt, Dress, Navy, Women's, Short Sleeved, White, 34x12

8410-01-069-6614—Shirt, Dress, Navy, Women's, Short Sleeved, White, 34x13

8410-01-069-6615—Shirt, Dress, Navy, Women's, Short Sleeved, White, 34x14

8410-01-069-6616—Shirt, Dress, Navy, Women's, Short Sleeved, White, 34x15

8410-01-069-6617—Shirt, Dress, Navy, Women's, Short Sleeved, White, 36x13

8410-01-069-6618—Shirt, Dress, Navy, Women's, Short Sleeved, White, 36x14

8410-01-069-6619—Shirt, Dress, Navy, Women's, Short Sleeved, White, 36x15

8410-01-069-6620—Shirt, Dress, Navy, Women's, Short Sleeved, White, 38x13

8410-01-069-6621—Shirt, Dress, Navy, Women's, Short Sleeved, White, 38x14

8410-01-069-6622—Shirt, Dress, Navy, Women's, Short Sleeved, White, 38x15

8410-01-069-6623—Shirt, Dress, Navy, Women's, Short Sleeved, White, 38x16

8410-01-069-6624—Shirt, Dress, Navy, Women's, Short Sleeved, White, 40x14

8410-01-069-6625—Shirt, Dress, Navy, Women's, Short Sleeved, White, 40x15

8410-01-069-6626—Shirt, Dress, Navy, Women's, Short Sleeved, White, 40x16

8410-01-069-6627—Shirt, Dress, Navy, Women's, Short Sleeved, White, 42x16

8410-01-349-9356—Shirt, Dress, Navy, Women's, Short Sleeved, White, 42x15

Mandatory Source(s) of Supply: Middle Georgia Diversified Industries, Inc., Dublin, GA

Contracting Activity: Defense Logistics Agency Troop Support

Service

Service Type: Janitorial/Custodial Service

Mandatory for: Federal Supply Service Depot: 4100 West 76th Street, Chicago, IL

Mandatory Source(s) of Supply: Lester and Rosalie Anixter Center, Chicago, IL

Contracting Activity: General Services Administration, FPDS Agency Coordinator

Amy B. Jensen,
Director, Business Operations.

[FR Doc. 2017-06972 Filed 4-6-17; 8:45 am]

BILLING CODE 6353-01-P